ENVIRONMENTAL PROTECTION AGENCY

40 CFR Part 112

Oil Pollution Prevention

CFR Correction

In Title 40 of the Code of Federal Regulations, Parts 100 to 135, revised as of July 1, 2002, Appendix F to part 112 is corrected as follows:

1. In section 1.0 paragraph B, by adding the words “required by” before 40 CFR 112.3;

2. In section 1.8.3 by revising “ 267-4085-4065” to read “(202) 267-4085”; and

3. In Attachment F-1, add footnote 1 to read:

Attachment F-1-Response Plan Cover Sheet

* * * * *

Dun & Bradstreet number: ¹

* * * * *

¹These numbers may be obtained from public library resources.

[FR Doc. 03-55500 Filed 1-28-03; 8:45 am]

BILLING CODE 1505-01-D